DEPARTMENT OF COMMERCE

National Oceanic and Atmospheric Administration

[RTID 0648-XB542]

Endangered Species; File No. 25686

AGENCY: National Marine Fisheries Service (NMFS), National Oceanic and Atmospheric Administration (NOAA), Commerce.

ACTION: Notice; receipt of application.

SUMMARY: Notice is hereby given that the NMFS Southeast Fisheries Science Center, 75 Virginia Beach, Miami, FL, 33149 (Responsible Party: Lisa Desfosse, Ph.D.) has applied in due form for a permit to take green (Chelonia mydas), hawksbill (Eretmochelys imbricata), Kemp's ridley (Lepidochelys kempii), leatherback (Dermochelys coriacea), loggerhead (Caretta caretta), and unidentified sea turtles for purposes of scientific research.

DATES: Written, telefaxed, or email comments must be received on or before November 29, 2021.

ADDRESSES: The application and related documents are available for review by selecting “Records Open for Public Comment” from the “Features” box on the Applications and Permits for Protected Species (APPS) home page, https://apps.nmfs.noaa.gov, and then selecting File No. 25686 from the list of available applications. These documents are also available upon written request via email to NMFS.Pr1Comments@noaa.gov.

Written comments on this application should be submitted via email to NMFS.Pr1Comments@noaa.gov. Please include File No. 25686 in the subject line of the email comment.

Those individuals requesting a public hearing should submit a written request via email to NMFS.Pr1Comments@noaa.gov. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to evaluate modifications to commercial fishing gear to mitigate sea turtle interactions and capture under two projects in the Atlantic Ocean, Gulf of Mexico, and Caribbean Sea and their estuarine and coastal environments: (1) Turtle Excluder Device (TED) Evaluations in Trawl Fisheries and (2) Evaluation of Longline Alternative Methods. These evaluations and subsequent gear modifications could help reduce incidental turtle bycatch in the gear types studied. The applicant proposes to conduct research on sea turtles bycaught in fisheries managed by Federal authority or during directed research to test different gear configurations. For the TED Evaluations project, the applicant requests the following annual take numbers to study turtles bycaught in commercial fisheries or directly captured by researchers using trawls: 160 loggerhead, 42 Kemp's ridley, 10 leatherback, 21 green, and 10 hawksbill sea turtles. For the Evaluation of Longline Alternative Methods project, the applicant requests the following annual take numbers for those individuals bycaught in commercial fisheries: 3 loggerhead, 2 Kemp's ridley, 18 leatherback, 2 green, and 2 hawksbill sea turtles. All individuals captured will be handled, measured, weighed, photographed, flipper tagged, passive integrated transponder tagged, skin biopsied, and released. Biological samples may be imported for analysis and curation. For each project, up to 10 unidentified sea turtle carcasses that unintentionally die in a fishery may be salvaged. The applicant requests 3 loggerhead, 2 Kemp's ridley, 2 green, and 2 leatherback sea turtle mortalities for the life of the permit for individuals that may unintentionally die during research. The permit would be valid for five years from the date of issuance.

Dated: October 25, 2021.
Julia M. Harrison,
Chief, Permits and Conservation Division, Office of Protected Resources, National Marine Fisheries Service.

[FR Doc. 2021-23631 Filed 10-28-21; 8:45 am]

BILLING CODE 3510-22-P